Title 3—

The President

Proclamation 8933 of February 28, 2013

American Red Cross Month, 2013

By the President of the United States of America

A Proclamation

Since our Nation's founding, seasons of trial and bitter hardship have revealed a core belief we share as Americans: that when we see our neighbors in need, we will always stand united in helping them get back on their feet. This month, we honor men and women who deliver relief to communities around the world, and we renew the compassionate spirit that continues to keep our country strong and our people safe.

The American Red Cross has proudly upheld a commitment to service that spans generations. Witness to the scars left by civil war, Clara Barton founded the organization in 1881 as a way to lift up the suffering—from warriors wounded in the line of duty to families displaced by damaging storms. In the years since, countless service and relief organizations have joined the American Red Cross in realizing that noble vision.

We saw the depth of their dedication just 4 months ago, when the sweeping devastation of Hurricane Sandy put millions of Americans in harm's way. In darkness and danger, thousands of professionals and volunteers stepped up to serve. They secured supplies and shelter when our people needed them most. And when times were tough, they proved that America is tougher because we all pull together.

That sense of resolve has seen our Nation through our greatest challenges, and the conviction that we are our brothers' and sisters' keepers will always remain at the heart of who we are as a people. As we reflect on the ties that bind us together, let us pay tribute to humanitarian organizations working here at home and around the world, and let us rededicate ourselves to service in the months ahead.

NOW, THEREFORE, I, BARACK OBAMA, President of the United States of America and Honorary Chairman of the American Red Cross, by virtue of the authority vested in me by the Constitution and the laws of the United States, do hereby proclaim March 2013 as American Red Cross Month. I encourage all Americans to observe this month with appropriate programs, ceremonies, and activities, and by supporting the work of service and relief organizations.

IN WITNESS WHEREOF, I have hereunto set my hand this twenty-eighth day of February, in the year of our Lord two thousand thirteen, and of the Independence of the United States of America the two hundred and thirty-seventh.

[FR Doc. 2013-05290

Filed 3-5-13; 8:45 am]

Billing code 3295-F3